DEPARTMENT OF ENERGY

Federal Energy Regulatory Commission

[Docket Nos. EG12-31-000; EG12-32-000; et al.]

Quantum Choctaw Power, LLC, USG Nevada LLC, et al.; Notice of Effectiveness of Exempt Wholesale Generator Status

| Docket Nos.
Quantum Choctaw Power, LLC | EG12-31-000
USG Nevada LLC | EG12-32-000
Kawailoa Wind, LLC | EG12-33-000
Mariposa Energy, LLC | EG12-34-000
Stephentown Spindle, LLC | EG12-35-000

Take notice that during the month of April 2012, the status of the above-captioned entities as Exempt Wholesale Generators became effective by operation of the Commission's regulations. 18 CFR 366.7(a).

Dated: May 4, 2012.
Kimberly D. Bose,
Secretary.

[FR Doc. 2012-11358 Filed 5-10-12; 8:45 am]

BILLING CODE 6717-01-P